INTERNATIONAL TRADE COMMISSION

[USITC SE-05-021]

Sunshine Act Meeting

Agency Holding the Meeting: United States International Trade Commission.

Time and Date: June 7, 2005 at 11 a.m.

Place: Room 101, 500 E Street SW., Washington, DC 20436, Telephone: (202) 205-2000.

Status: Open to the public.

Matters to be Considered:

1. Agenda for future meetings: none

2. Minutes

3. Ratification List

4. Inv. Nos. 701-TA-376, 377, and 379, and 731-TA-788-793 (Review) (Certain Stainless Steel Plate from Belgium, Canada, Italy, Korea, South Africa, and Taiwan)—briefing and vote. (The Commission is currently scheduled to transmit its determination and Commissioners' opinions to the Secretary of Commerce on or before June 21, 2005.)

5. Outstanding action jackets: none

In accordance with Commission policy, subject matter listed above, not disposed of at the scheduled meeting, may be carried over to the agenda of the following meeting.

Issued: May 19, 2005.
By order of the Commission.
Marilyn R. Abbott,
Secretary to the Commission.

[FR Doc. 05-10347 Filed 5-19-05; 1:13 pm]

BILLING CODE 7020-02-P